DEPARTMENT OF THE INTERIOR

Bureau of Land Management

(CO-130-01-5320-ES-241A; COC-36803, COC-63662)

Realty Action; Recreation and Public Purposes (R&PP) Act Classification and Federal Land Policy and Management Act Mineral Conveyance; Colorado

AGENCY: Bureau of Land Management, Interior.

ACTION: Notice.

SUMMARY: In response to an application from Eagle County, Colorado, the following public lands have been examined and found suitable for classification for conveyance to Eagle County, under the provisions of the Recreation and Public Purposes Act, as amended (43 U.S.C. 869 et seq.). The lands currently leased to Eagle County for landfill purposes (R&PP lease COC-36803) would continue to be used for landfill purposes. Additional adjacent land would also be used for landfill purposes. Eagle County has also submitted an application to purchase the mineral estate.

Sixth Principal Meridian, Colorado

Township 4 South, Range 83 West

Section 2: E½SW¼SW¼, SW¼SW¼SW¼, SE¼SW¼, S½SE¼

Section 10: E½NE¼, E½SW¼NE¼, E½SE¼SW¼, SE¼

Section 11: N½N½, SW¼NW¼, W½SE¼NW¼, W½E½SE¼NW¼, W½W½SW¼, W½E½W½SW¼, E½NE¼NW¼SW¼, W½NW¼NE¼SW¼

Aggregating 730 acres, more or less.

The lands are not needed for Federal purposes. Conveyance is consistent with current Bureau land-use planning and would be in the public interest. The patent or patents, if issued, will be subject to the following reservations, terms, and conditions:

1. Provisions of the Recreation and Public Purposes Act and all applicable regulations of the Secretary of the Interior.

2. The patentee shall comply with all Federal and State laws applicable to the disposal, placement, or release of hazardous substances (substance as defined in 40 CFR part 302.)

3. A right-of-way thereon for ditches and canals constructed by authority of the United States.

4. Those rights for electric transmission line purposes granted by rights-of-way COC-31358 and COC-36762.

5. Those rights for telephone line purposes granted by rights-of-way COC-35138 and COC-50820.

6. Those rights for road purposes granted by rights-of-way COC-40272 and COC-57551.

7. Eagle County, its successors or assigns, shall defend, indemnify, and save harmless the United States and its officers, agents, representatives, and employees (hereinafter referred to in this clause as the United States), from all claims, loss, damage, actions, causes of action, expense, and liability (hereinafter referred to in this clause as claims) resulting from, brought for, or on account of, any personal injury, threat of personal injury, or property damage received or sustained by any person or persons (including the patentee's employees) or property growing out of, occurring, or attributable directly or indirectly, to the disposal of solid waste on, or the release of hazardous substances from: Sixth Principal Meridian, Colorado, Sec.2: E½SW¼SW¼, SW¼SW¼SW¼, SE¼SW¼, S½SE¼; Sec. 10: E½NE¼, E½SW¼NE¼, E½SE¼SW¼, SE¼; Sec. 11: N½N½, SW¼NW¼, W½SE¼NW¼, W½E½SE¼NW¼, W½W½SW¼, W½E½W½SW¼, E½NE¼NW¼SW¼, W½NW¼NE¼SW¼, regardless of whether such claims shall be attributable to: (1) the concurrent, contributory, or partial fault, failure, or negligence of the United States, or (2) the sole fault, failure, or negligence of the United States. In the event of payment, loss, or expense under this agreement, the patentee shall be subrogated to the extent of the amount of such payment to all rights, powers, privileges, and remedies of the United States against any person regarding such payment, loss, or expense.

The following lands included in the proposed sale are encumbered by an un-perfected right-of-way application for reservoir purposes (COC-17784), held by the Denver Board of Water Commissioners: Section 2 (SW¼SW¼SW¼, NE¼SW¼SW¼), Section 10 (NW¼SE¼, SW¼NE¼.)

Classification Comments: Interested parties may submit comments involving the suitability of the land for a landfill. Comments on the classification are restricted to whether the land is physically suited for a landfill, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for a landfill.

Comments received on the classification will be answered by the State Director with the right to further comment to the Secretary. Comments on the application will be answered by the State Director with the right of appeal to the Interior Board of Land Appeals.

Upon publication of this notice in the Federal Register, the lands will be segregated from all other forms of appropriation under the public land laws, including the general mining laws, except for conveyance under the Recreation and Public Purposes Act. The segregative effect shall terminate upon issuance of a patent, upon final rejection of the application, or two years from the date of this notice, whichever occurs first.

For a period of 45 days from the date of publication of this notice in the Federal Register, interested persons may submit comments regarding the proposed classification or conveyance of the lands to: Bureau of Land Management, Western Slope Center, 2815 H Road, Grand Junction, Colorado, 81506, ATTN: Alan Kraus. In the absence of any adverse comments, the classification will become effective 60 days from the date of publication of this notice in the Federal Register.

For Further Information: Detailed information concerning this action is available at the Bureau of Land Management, Glenwood Springs Field Office, 50629 Highway 6 and 24, Glenwood Springs, Colorado, or the Bureau of Land Management, Western Slope Center/Grand Junction Field Office, 2815 H Road, Grand Junction, Colorado, or contact Mr. Alan Kraus at (970)244-3078.

Public Meeting: A public open house will be held on February 15, 2001 from 6:00pm to 9:00pm, at the Garden Level Classroom, Eagle County Building, 500 Broadway, Eagle, Colorado. The purpose of the open house will be to allow interested persons to view information regarding the proposed sale and the proposed landfill expansion, and to discuss the proposals with Bureau of Land Management and Eagle County personnel. Persons wishing to submit formal comments may do so at that time.

Dated: January 23, 2001.
Anne Huebner,
Glenwood Springs Field Office Manager.

[FR Doc. 01-2905 Filed 2-2-01; 8:45 am]

BILLING CODE 4310-JB-U